NATIONAL AERONAUTICS AND SPACE ADMINISTRATION

[Notice (10-092)]

NASA Advisory Council; Space Operations Committee; Meeting

AGENCY: National Aeronautics and Space Administration.

ACTION: Notice of meeting.

SUMMARY: In accordance with the Federal Advisory Committee Act, Public Law 92-463, as amended, the National Aeronautics and Space Administration announces a meeting of the NASA Advisory Council (NAC) Space Operations Committee.

DATES: Monday, September 13, 2010,1 p.m.—5 p.m. local time.

Tuesday, September 14, 2010, 8 a.m.-12 p.m. local time.

ADDRESSES: NASA Johnson Space Center, Houston, TX.

FOR FURTHER INFORMATION CONTACT: Mr. Jacob Keaton, NAC Space Operations Committee Executive Secretary, National Aeronautics and Space Administration Headquarters, Washington, DC 20546, 202/358-1507, jacob.keaton@nasa.gov. All members of the public wishing to attend must contact Mr. Keaton no later than 12 p.m. EDT on September 10, 2010, for security access and meeting location information for the Johnson Space Center.

SUPPLEMENTARY INFORMATION: The agenda for the meeting includes the following topics:

—Monday, September 13: Commercial Crew and Vehicle Design, Micrometeoroid Orbital Debris and Radiation Protection, International Space Station and Space Shuttle Program Update.

—Tuesday, September 14: Recommendation Preparation, Open Discussion with the NASA Advisory Council Commercial Space Committee and NASA officials.

The meeting will be open to the public up to the seating capacity of the room. It is imperative that the meeting be held on this date to accommodate the scheduling priorities of the key participants.

Dated: August 17, 2010.
P. Diane Rausch,
Advisory Committee Management Officer, National Aeronautics and Space Administration.

[FR Doc. 2010-20821 Filed 8-20-10; 8:45 am]

BILLING CODE P